DEPARTMENT OF ENERGY

Federal Energy Regulatory Commission

[Docket No. RP01-440-000]

Kern River Gas Transmission Company; Notice of Proposed Changes in FERC Gas Tariff

June 6, 2001.

Take notice that on May 31, 2001, Kern River Gas Transmission Company (Kern River) tendered for filing as part of its FERC Gas Tariff, Second Revised Volume No. 1, the following tariff sheets, to be effective July 1, 2001.

First Revised Sheet No. 178

First Revised Sheet No. 179

First Revised Sheet No. 180

First Revised Sheet No. 181

Original Sheet No. 181-A

Kern River states that the purpose of this filing is to revise Section 22 of Kern River's tariff to increase the scope of the pooling services that Kern River is providing to its customers.

Kern River states that it has served a copy of this filing upon its customers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14690 Filed 6-11-01; 8:45 am]

BILLING CODE 6717-01-M